DEPARTMENT OF THE INTERIOR

Bureau of Land Management

[CA 660-07-5101-ER]

Notice of Availability of Final Environmental Impact Statement/Environmental Impact Report (EIS/EIR) for the Proposed Mountain View IV Wind Energy Project

AGENCY: Bureau of Land Management, Interior.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM), with the City of Palm Springs, has prepared a Final Environmental Impact Statement/Environmental Impact Report (EIS/EIR) for the proposed Mountain View IV Wind Energy Project and by this notice is announcing the availability of the document. The BLM is the lead Federal agency for the preparation of this EIS and the City of Palm Springs is the lead State of California agency for the preparation of this EIR.

DATES: The document will be available for 30 days following publication of a Notice of Availability (NOA) of this document, in the Federal Register, by the Environmental Protection Agency (EPA). The BLM will not issue a final decision on the proposal for a minimum of 30 days following publication of EPA's NOA.

ADDRESSES: A copy of the Final EIS/EIR for the Proposed Mountain View IV Wind Energy Project is available for review at the BLM Palm Springs-South Coast Field Office, 690 W. Garnet Avenue, North Palm Springs, California, during regular business hours of 7:45 a.m. to 4:30 p.m., Monday through Friday, except holidays, and at the Palm Springs Public Library located at 300 South Sunrise Way, Palm Springs, CA 92262. Copies are also available via the Internet at http://www.blm.gov/ca/palmsprings. Electronic (on CD-ROM) or paper copies may also be obtained by contacting the BLM at the aforementioned address.

FOR FURTHER INFORMATION CONTACT: For further information contact Greg Hill, Bureau of Land Management, Palm Springs-South Coast Field Office, (760) 251-4840, or by e-mail at Greg_Hill@ca.blm.gov.

SUPPLEMENTARY INFORMATION: Mountain View Power Partners IV, LLC has applied for a right-of-way on public lands and a conditional use permit on private lands to construct a wind energy generating facility in the Coachella Valley, in Riverside County. The project site is west of Indian Avenue and is within the corporate boundary of the City of Palm Springs and within the planning area for the draft Coachella Valley Multiple Species Habitat Conservation Plan. Operations are expected to last approximately 30 years. The proposed project would install a total of approximately 42 to 50 wind turbines on public and private lands, with a total generating capacity of approximately 49 megawatts. Related structures would include access roads, a 34.5-kV powerline and an electrical substation. If approved, the wind energy generating facility on public lands would be authorized in accordance with Title V of FLPMA and the Federal regulations at 43 CFR part 2800. The proposed project would take approximately 7 months to construct. A Notice of Intent To Prepare an EIS/EIR was published in the Federal Register on June 5, 2006, and invited comments on issues which may have been relevant to preparation of the document. A public scoping meeting was held on June 27, 2006 in the City of Palm Springs. The Draft EIS/EIR was released for public review, with a 45-day comment period, on February 23, 2007. Following release of the Draft EIS/EIR, a public meeting was held to solicit additional comments on the document. Two comment letters were submitted on the Draft EIS/EIR. No comments contained in these letters resulted in substantive changes being made to the Draft EIS/EIR in preparing the Final EIS/EIR.

The BLM will consider any comments submitted during this period to determine whether they identify significant new circumstances or information relevant to environmental concerns bearing upon the proposed action. The BLM will prepare a Record of Decision (ROD) for the proposed project after the 30-day period following publication of the NOA. Before including your address, phone number, e-mail address, or other personal identifying information in your comment, you should be aware that your entire comment—including your personal identifying information—may be made publicly available at any time. While you can ask us in your comment to withhold your personal identifying information from public review, we cannot guarantee that we will be able to do so.

John Kalish,
Field Manager, Palm Springs-South Coast Field Office.

[FR Doc. E8-26476 Filed 11-6-08; 8:45 am]

BILLING CODE 4310-40-P